DEPARTMENT OF HOMELAND SECURITY

[Docket No. DHS-2008-0001]

Committee Name: Homeland Security Information Network Advisory Committee

AGENCY: Department of Homeland Security.

ACTION: Committee Management; Notice of Federal Advisory Committee Meeting.

SUMMARY: The Homeland Security Information Network Advisory Committee (HSINAC) will meet from February 12-13, 2008, in Potomac, MD. The meeting will be open to the public.

DATE: The HSINAC will meet Tuesday, February 12, 2008, from 9 a.m. to 4:30 p.m. and on Wednesday, February 13, 2008, from 8:30 a.m. to 12 p.m. Please note that the meeting may close early if the committee has completed its business.

ADDRESSES: The meeting will be held at the Bolger Center, 9600 Newbridge Drive, Potomac, MD 20854-4436. Send written material, comments, and requests to make oral presentations to Elliott Langer, Department of Homeland Security, 245 Murray Lane SW, Bldg 410; Washington, DC 20528. Requests to make oral statements at the meeting should reach the contact person listed below by February 1, 2008. Requests to have a copy of your material distributed to each member of the committee prior to the meeting should reach the contact person at the address below by February 1, 2008. Comments must be identified by DHS-2008-0001 and may be submitted by one of the following methods:

• Federal eRulemaking Portal: http://www.regulations.gov. Follow the instructions for submitting comments.

• E-mail: Elliott.langer@dhs.gov. Include the docket number in the subject line of the message.

• Fax: 202-282-8191.

• Mail: Elliott Langer, Department of Homeland Security, 245 Murray Lane, SW., Building 410, Washington, DC 20528.

Instructions: All submissions received must include the words “Department of Homeland Security” and the docket number for this action. Comments received will be posted without alteration at www.regulations.gov, including any personal information provided.

Docket: For access to the docket to read background documents or comments received by the Homeland Security Information Network Advisory Committee, go to http://www.regulations.gov.

FOR FURTHER INFORMATION CONTACT: Elliott Langer, 245 Murray Lane SW., Bldg 410, Washington, DC 20528, Elliott.langer@dhs.gov, 202-282-8978, fax 202-282-8191.

SUPPLEMENTARY INFORMATION: Notice of this meeting is given under the Federal Advisory Committee Act, 5 U.S.C. App. (Pub. L. 92-463). The mission of the HSINAC is to identify issues and provide independent advice and recommendations for the improvement of HSIN to senior leadership of the Department, in particular the Director of Operations Coordination. The agenda for this meeting will include an update on efforts concerning the improvement of HSIN and discussions to develop a methodology of collecting and validating HSIN community User input and User based system requirements.

Procedural

This meeting is open to the public. Please note that the meeting may close early if all business is finished.

Participation in HSINAC deliberations is limited to committee members, Department of Homeland Security officials, and persons invited to attend the meeting for special presentations.

All visitors to Bolger Center will have to pre-register to be admitted to the building. Please provide your name, telephone number by close of business on February 1, 2008, to Elliott Langer (202-282-8978) (Elliott.langer@dhs.gov).

Information on Services for Individuals With Disabilities

For information on facilities or services for individuals with disabilities or to request special assistance at the meeting, contact Elliott Langer as soon as possible.

Roger T. Rufe, Jr.,
Director of Operations Coordination.

[FR Doc. E8-292 Filed 1-10-08; 8:45 am]

BILLING CODE 4410-10-P